DEPARTMENT OF TRANSPORTATION

Federal Transit Administration

[FTA Docket No. FTA 2005-21382]

Notice of Request for a New Collection

AGENCY: Federal Transit Administration, DOT.

ACTION: Notice of request for comments.

SUMMARY: In accordance with the Paperwork Reduction Act of 1995, this notice announces the intention of the Federal Transit Administration (FTA) to request the Office of Management and Budget (OMB) to approve a new collection: 49 U.S.C. Section 3037 Job Access and Reverse Commute Programs.

DATES: Comments must be submitted before August 8, 2005.

ADDRESSES: All written comments must refer to the docket number that appears at the top of this document and be submitted to the United States Department of Transportation, Central Dockets Office, PL-401, 400 Seventh Street, SW., Washington, DC 20590. All comments received will be available for examination at the above address from 10 a.m. to 5 p.m., e.t., Monday through Friday, except federal holidays. Those desiring notification of receipt of comments must include a self-addressed, stamped postcard/envelope.

FOR FURTHER INFORMATION CONTACT: Mr. Gregory D. Brown, Office of Program Management, (202) 366-2053.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

49 U.S.C. Section 3037 Job Access and Reverse Commute Programs

Background: 49 U.S.C. Section 3037 Job Access and Reverse Commute (JARC) Program authorizes the Secretary of Transportation to make grants to State and local governments and public transportation authorities to transport welfare recipients and other low-income individuals to and from jobs and activities related to employment. Grant recipients are required to make information available to the public and to publish a program of projects for affected citizens to comment on the proposed program and performance of the grant recipients at public hearings. Notices of hearings must include a brief description of the proposed project and must be published in a newspaper circulated in the affected area. FTA uses the information to determine eligibility for funding and to monitor the grantees' progress in implementing and completing project activities. FTA also collects grantee performance information annually. A web-based contractor, who collects the grantee information electronically and develops JARC information tables as needed, performs this information collection activity. The information submitted ensures FTA's compliance with applicable federal laws and OMB Circular A-102.

Respondents: State & local government, private non-profit organizations and public transportation authorities.

Estimated Annual Burden on Respondents: 251 hours for each respondent.

Estimated Total Annual Burden: 78,609 hours.

Frequency: Annual.

Issued: June 2, 2005.
Ann Linnertz,
Deputy Associate Administrator for Administration.

[FR Doc. 05-11319 Filed 6-7-05; 8:45 am]

BILLING CODE 4910-57-P